ENVIRONMENTAL PROTECTION AGENCY

[FRL 9958-25-OA]

Notice of Meeting of the EPA Children's Health Protection Advisory Committee (CHPAC)

AGENCY: Environmental Protection Agency.

ACTION: Notice of meeting.

SUMMARY: Pursuant to the provisions of the Federal Advisory Committee Act, Public Law 92-463, notice is hereby given that the next meeting of the Children's Health Protection Advisory Committee (CHPAC) will be held February 1 and 2, 2017, at Georgetown University Hotel and Conference Center, 3800 Reservoir Road NW., Washington, DC 20057.

The CHPAC advises the Environmental Protection Agency on science, regulations, and other issues relating to children's environmental health.

DATES: February 1, 2017, from 1:00 p.m. to 5:30 p.m. and February 2, 2017, from 9:00 a.m. to 4:00 p.m.

ADDRESSES: 3800 Reservoir Road NW., Washington, DC 20057.

FOR FURTHER INFORMATION CONTACT: Martha Berger, Office of Children's Health Protection, USEPA, MC 1107T, 1200 Pennsylvania Avenue NW., Washington, DC 20460, (202) 564-2191 or berger.martha@epa.gov.

SUPPLEMENTARY INFORMATION: The meetings of the CHPAC are open to the public. An agenda will be posted to epa.gov/children.

Access and accommodations: For information on access or services for individuals with disabilities, please contact Martha Berger at 202-564-2191 or berger.martha@epa.gov.

Dated: January 9, 2017.
Martha Berger,
Designated Federal Official.

[FR Doc. 2017-00547 Filed 1-11-17; 8:45 am]

BILLING CODE 6560-50-P